DEPARTMENT OF ENERGY

Federal Energy Regulatory Commission

[Project No. 2503-147—South Carolina and North Carolina Keowee-Toxaway Hydroelectric Project]

Duke Energy Carolinas, LLC; Notice of Proposed Restricted Service List for a Programmatic Agreement

Rule 2010 of the Federal Energy Regulatory Commission's (Commission's) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the South Carolina State Historic Preservation Officer (SHPO), the North Carolina SHPO, and the Advisory Council on Historic Preservation (Advisory Council) pursuant to the Advisory Council's regulations, 36 CFR Part 800, implementing section 106 of the National Historic Preservation Act, as amended, (16 U.S.C. section 470f), to prepare a Programmatic Agreement for managing properties included in, or eligible for inclusion in, the National Register of Historic Places at the existing Keowee-Toxaway Hydroelectric Project.

The Programmatic Agreement, when executed by the Commission, the South Carolina SHPO, the North Carolina SHPO, and the Advisory Council, would satisfy the Commission's section 106 responsibilities for all individual undertakings carried out in accordance with the license until the license expires or is terminated (36 CFR section 800.13(e)). The Commission's responsibilities pursuant to section 106 for the project would be fulfilled through the Programmatic Agreement, which the Commission staff proposes to draft in consultation with certain parties listed below.

Duke Energy Carolinas, LLC, as licensee for Project No. 2503-147, is invited to participate in consultations to develop the Programmatic Agreement and to sign as a concurring party to the Programmatic Agreement. For purposes of commenting on the Programmatic Agreement, we propose to restrict the service list for Project No. 2503-147 as follows:

John Fowler, Executive Director, Advisory Council on Historic Preservation, The Old Post Office Building, Suite 803, 1100 Pennsylvania Avenue, NW., Washington, DC 20004 | Jennifer Huff, Duke Energy Carolinas, LLC, Mail Code EC12y, 526 South Church Street, Charlotte, NC 28202-1802.
Dr. Jodi Barnes, South Carolina Archives & History Center, 8301 Parklane Road, Columbia, SC 29223-4905 | Brett A. Garrison, Duke Energy Lake Services—ONO2LM, 7800 Rochester Highway, Seneca, SC 29672.
Rebekah Dobrasko, South Carolina Archives & History Center, 8301 Parklane Road, Columbia, SC 29223-4905 | Tyler B. Howe, Eastern Band of Cherokee Indians, P.O. Box 455, Cherokee, NC 28719.
Renee Gledhill-Earley, North Carolina Department of Cultural Resources, 4617 Mail Service Center, Raleigh, NC 27699-4610 | Russell Townsend, THPO, Eastern Band of Cherokee Indians, P.O. Box 455, Cherokee, NC 28719.
Dolores Hall, North Carolina Office of State Archaeology, 4619 Mail Service Center, Raleigh, NC 27699-4619 | Wenonah G. Haire, DMD, THPO, Catawba Indian Nation, 1536 Tom Stevens Road, Rock Hill, SC 29730.

Any person on the official service list for the above-captioned proceedings may request inclusion on the restricted service list, or may request that a restricted service list not be established, by filing a motion to that effect within 15 days of this notice date. An original plus seven copies of any such motion must be filed with the Secretary of the Commission (888 First Street, NE., Washington, DC 20426) and must be served on each person whose name appears on the official service list. If no such motions are filed, the restricted service list will be effective at the end of the 15 day period. Otherwise, a further notice will be issued ruling on the motion.

Dated: August 11, 2011.
Kimberly D. Bose,
Secretary.

[FR Doc. 2011-20973 Filed 8-16-11; 8:45 am]

BILLING CODE 6717-01-P